FEDERAL COMMUNICATIONS COMMISSION

47 CFR Parts 27 and 90

[WT Docket No. 06-150; CC Docket No. 94-102, WT Docket No. 01-309, WT Docket No. 03-264, WT Docket No. 06-169; PS Docket No. 06-229; WT Docket No. 96-86; WT Docket No. 07-166; FCC No. 07-132]

Service Rules for the 698-806 MHz Band, Revision of the Commission's Rules Regarding Public Safety Spectrum Requirements, and a Declaratory Ruling on Reporting Requirement Under the Commission's Anti-Collusion Rule; Correction

AGENCY: Federal Communications Commission.

ACTION: Final rule; correction.

SUMMARY: The Federal Communications Commission (FCC) published in the Federal Register of August 24, 2007, a document concerning the adoption of final rules governing wireless licenses in the 698-806 MHz Band (i.e., the 700 MHz Band). (72 FR 48814) This document corrects and amends portions of that document.

DATES: Effective November 29, 2007, except for the amendments to §§ 27.14, 27.15, and 27.50 which contain information collection requirements that have not been approved by the Office of Management and Budget. The Commission will publish a document in the Federal Register announcing the effective date.

FOR FURTHER INFORMATION CONTACT: Paul Moon at (202) 418-1793, paul.moon@fcc.gov, Mobility Division, Wireless Telecommunications Bureau; Peter Trachtenberg at (202) 418-7369, peter.trachtenberg@fcc.gov, Spectrum and Competition Policy Division, Wireless Telecommunications Bureau; Jeff Cohen at (202) 418-0799, jeff.cohen@fcc.gov, Public Safety and Homeland Security Bureau.

SUPPLEMENTARY INFORMATION: This document is a partial summary of the Federal Communications Commission's Erratum, FCC 07-132, released on October 25, 2007. This document augments another partial summary of that Erratum published in the Federal Register November 29, 2007. This correction document changes the paragraphs referenced on page 48842, second column, line 2, and corrects rules governing §§ 27.14, 27.15, 27.50, and 90.531.

In FR doc. 07-4123 published in the Federal Register of August 24, 2007, (72 FR 48814) the following corrections are made:

1. On page 48842, in the second column, line 2 is corrected to read “specified in paragraphs 225 and 226,”.

2. On page 48846, in the first column, in § 27.14, the first sentence of paragraph (a) is corrected to read as follows:

§ 27.14 Construction requirements; Criteria for renewal.

(a) AWS and WCS licensees, with the exception of WCS licensees holding authorizations for Block A in the 698-704 MHz and 728-734 MHz bands, Block B in the 704-710 MHz and 734-740 MHz bands, Block E in the 722-728 MHz band, Block C, C1, or C2 in the 746-757 MHz and 776-787 MHz bands, or Block D in the 758-763 MHz and 788-793 MHz bands, must, as a performance requirement, make a showing of “substantial service” in their license area within the prescribed license term set forth in § 27.13. * * *

* * * * *

3. On page 48846, in the first column, § 27.14(e) is corrected to read as follows:

§ 27.14 Construction requirements; Criteria for renewal.

* * * * *

(e) Comparative renewal proceedings do not apply to WCS licensees holding authorizations for Block A in the 698-704 MHz, 728-734 MHz bands, Block B in the 704-710 MHz and 734-740 MHz bands, Block C in the 710-716 MHz and 740-746 MHz bands, Block D in the 716-722 MHz band, Block E in the 722-728 MHz band, Block C, C1, or C2 in the 746-757 MHz and 776-787 MHz bands, or Block D in the 758-763 MHz and 788-793 MHz bands. Each of these licensees must file a renewal application in accordance with the provisions set forth in § 1.949, and must make a showing of substantial service, independent of its performance requirements, as a condition for renewal at the end of each license term.

* * * * *

4. On page 48846, in the first column, the sixth line of § 27.14(g) is corrected to read “MHz bands, or EA authorizations for”.

5. On page 48846, in the second column, the final sentence of § 27.14(g)(1) is corrected to read “In addition, an EA or CMA licensee that provides signal coverage and offers service at a level that is below this interim benchmark may lose authority to operate in part of the remaining unserved areas of the license.”

6. On page 48846, in the second column, the eighteenth line of § 27.14(g)(2) is corrected to read “this end-of-term benchmark may be”.

7. On page 48846, in the second column, § 27.14(g)(3) is corrected to read as follows:

§ 27.14 Construction requirements; Criteria for renewal.

* * * * *

(g) * * *

(3) For licenses under paragraph (g) of this section, the geographic service area to be made available for reassignment must include a contiguous area of at least 130 square kilometers (50 square miles), and areas smaller than a contiguous area of at least 130 square kilometers (50 square miles) will not be deemed unserved.

* * * * *

8. On page 48846, in the second and third column, § 27.14(h) introductory text is corrected to read as follows:

§ 27.14 Construction requirements; Criteria for renewal.

* * * * *

(h) WCS licensees holding REAG authorizations for Block C in the 746-757 MHz and 776-787 MHz bands or REAG authorizations for Block C2 in the 752-757 MHz and 782-787 MHz bands shall provide signal coverage and offer service over at least 40 percent of the population in each EA comprising the REAG license area no later than February 17, 2013 (or within four years of initial license grant, if the initial authorization in a market is granted after February 17, 2009), and shall provide such service over at least 75 percent of the population of each of these EAs by the end of the license term. For purposes of compliance with this requirement, licensees should determine population based on the most recently available U.S. Census Data.

* * * * *

9. On page 48846, in the third column, line 16 of § 27.14(h)(1) is corrected to read “this interim benchmark may lose”.

10. On page 48846, in the third column, line 23 of § 27.14(h)(2) is corrected to read “this end-of-term benchmark within any”.

11. Section 27.14 is corrected by adding paragraph (h)(3) to read as follows:

§ 27.14 Construction requirements; Criteria for renewal.

* * * * *

(h) * * *

(3) For licenses under paragraph (h), the geographic service area to be made available for reassignment must include a contiguous area of at least 130 square kilometers (50 square miles), and areas smaller than a contiguous area of at least 130 square kilometers (50 square miles) will not be deemed unserved.

12. On page 48846, in the third column, § 27.14(i) introductory text is corrected to read as follows:

§ 27.14 Construction requirements; Criteria for renewal.

* * * * *

(i) WCS licensees holding EA authorizations for Block A in the 698-704 MHz and 728-734 MHz bands, cellular market authorizations for Block B in the 704-710 MHz and 734-740 MHz bands, or EA authorizations for Block E in the 722-728 MHz band, if the results of the first auction in which licenses for such authorizations in Blocks A, B, and E are offered do not satisfy the reserve price for the applicable block, as well as EA authorizations for Block C1 in the 746-752 MHz and 776-782 MHz bands, are subject to the following:

* * * * *

13. On page 48847, in the first column, line 16 of § 27.14(i)(1) is corrected to read “service at a level that is below this”.

14. On page 48847, in the first column, line 25 of § 27.14(i)(2) is corrected to read “this end-of-term benchmark may be”.

15. On page 48847, in the first column, § 27.14(i)(3) is corrected to read as follows:

§ 27.14 Construction requirements; Criteria for renewal.

* * * * *

(i) * * *

(3) For licenses under paragraph (i), the geographic service area to be made available for reassignment must include a contiguous area of at least 130 square kilometers (50 square miles), and areas smaller than a contiguous area of at least 130 square kilometers (50 square miles) will not be deemed unserved.

* * * * *

16. On page 48847, in the second and third column, § 27.14(k) is corrected to read as follows:

§ 27.14 Construction requirements; Criteria for renewal.

* * * * *

(k) WCS licensees holding authorizations in the spectrum blocks enumerated in paragraphs (g), (h), or (i), including any licensee that obtained its license pursuant to the procedures set forth in subsection (j), shall demonstrate compliance with performance requirements by filing a construction notification with the Commission, within 15 days of the expiration of the applicable benchmark, in accordance with the provisions set forth in § 1.946(d). The licensee must certify whether it has met the applicable performance requirements. The licensee must file a description and certification of the areas for which it is providing service. The construction notifications must include electronic coverage maps, supporting technical documentation and any other information as the Wireless Telecommunications Bureau may prescribe by public notice.

* * * * *

17. On page 48847, in the third column, § 27.14(l) is corrected to read as follows:

§ 27.14 Construction requirements; Criteria for renewal.

* * * * *

(l) WCS licensees holding authorizations in the spectrum blocks enumerated in paragraphs (g), (h), or (i) of this section, excluding any licensee that obtained its license pursuant to the procedures set forth in subsection (j) of this section, shall file reports with the Commission that provide the Commission, at a minimum, with information concerning the status of their efforts to meet the performance requirements applicable to their authorizations in such spectrum blocks and the manner in which that spectrum is being utilized. The information to be reported will include the date the license term commenced, a description of the steps the licensee has taken toward meeting its construction obligations in a timely manner, including the technology or technologies and service(s) being provided, and the areas within the license area in which those services are available. Each of these licensees shall file its first report with the Commission no later than February 17, 2011 and no sooner than 30 days prior to this date. Each licensee that meets its interim benchmarks shall file a second report with the Commission no later than February 17, 2016 and no sooner than 30 days prior to this date. Each licensee that does not meet its interim benchmark shall file this second report no later than on February 17, 2015 and no sooner than 30 days prior to this date.

* * * * *

18. On page 48847, in the third column, the second line of § 27.14(m) is corrected to read “authorization for the D Block in the 758-763”.

19. On page 48847, in the third column, the third line of § 27.14(m) is corrected to read “MHz and 788-793 MHz bands (the Upper 700”.

20. On page 48848, in the first column, the sixth line of § 27.14(m)(4) is corrected to read “expiration of the applicable benchmark, in”.

21. On page 48848, in the first column, the tenth line of § 27.14(m)(4) is corrected to read “the applicable performance requirement”.

§ 27.15 [Corrected]

22. On page 48848, in the second column, the eighth line of § 27.15(d) is corrected to read “MHz band, Blocks C, C1, or C2 in the”.

23. On page 48848, in the second column, the tenth line of § 27.15(d) is corrected to read “or Block D in the 758-763 MHz and”.

* * * * *

24. On page 48848, in the second column, the sixth line of § 27.15(d)(1)(ii) is corrected to read “MHz band, or Blocks C, C1, or C2 in”.

25. On page 48848, in the third column, the first sentence of § 27.15(d)(2)(i) is corrected to read as follows:

§ 27.15 Geographic partitioning and spectrum disaggregation.

* * * * *

(d) * * *

(2) Disaggregation. (i) Except for WCS licensees holding authorizations for Block A in the 698-704 MHz and 728-734 MHz bands, Block B in the 704-710 MHz and 734-740 MHz bands, Block E in the 722-728 MHz band, Blocks C, C1, or C2 in the 746-757 MHz and 776-787 MHz bands, or Block D in the 758-763 MHz and 788-793 MHz bands, the following rules apply to WCS and AWS licensees holding authorizations for purposes of implementing the construction requirements set forth in § 27.14. * * *

* * * * *

26. On page 48848, in the third column, the sixth line of § 27.15(d)(2)(ii) is corrected to read “MHz band, or Blocks C, C1, or C2 in”.

§ 27.50 [Corrected]

27. On page 48849, in the second column, § 27.50(b) introductory text is corrected to read as follows:

§ 27.50 Power and antenna height limits.

* * * * *

(b) The following power and antenna height limits apply to transmitters operating in the 746-763 MHz, 775-793 MHz and 805-806 MHz bands: * * *

* * * * *

§ 90.531 [Corrected]

28. On page 48860, third column, line 63, the amendatory language of § 90.531 is corrected by removing amendatory instruction (d).

Federal Communications Commission.
Marlene H. Dortch,
Secretary.

[FR Doc. E7-23096 Filed 11-28-07; 8:45 am]

BILLING CODE 6712-01-P